DEPARTMENT OF ENERGY

Federal Energy Regulatory Commission

[Docket No. GT02-30-000]

Tennessee Gas Pipeline Company; Notice of Tariff Filing

July 17, 2002.

Take notice that on July 12, 2002, Tennessee Gas Pipeline Company (Tennessee), tendered for filing as part of its FERC Gas Tariff, Fifth Revised Volume No. 1: Twentieth Revised Sheet No. 26A, Thirtieth Revised Sheet No. 26B, Second Revised Sheet No. 31, Second Revised Sheet No. 33, Sixth Revised Sheet No. 39, Sixth Revised Sheet No. 42, Sixth Revised Sheet No. 180, and Second Revised Sheet No. 220A, with an effective date of August 1, 2002.

Tennessee states that this filing is (1) to update Rate Schedule NET-284 to reflect the conversion of two shippers to service under Rate Schedule FT-A, and (2) to reflect name changes for two of Tennessee's shippers.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18537 Filed 7-22-02; 8:45 am]

BILLING CODE 6717-01-P